DEPARTMENT OF COMMERCE

International Trade Administration

[A-570-827]

Certain Cased Pencils From the People's Republic of China: Initiation of Antidumping New Shipper Review

AGENCY: Import Administration, International Trade Administration, Department of Commerce.

ACTION: Notice of Initiation of Antidumping New Shipper Review.

SUMMARY: The Department of Commerce (“the Department”) has received a request from exporter Wuxi Andi Civilization PE Gift Give Away Co., Ltd., and importer Safety Touch & Javithon Inc., (collectively “Wuxi”), to conduct a new shipper review of the antidumping duty order on certain cased pencils from the People's Republic of China (“PRC”), produced by Shanghai Anli Stationary Sporting Goods Co., Ltd. (“Anfong”). In accordance with 19 CFR 351.214(d) of the Department's regulations, we are initiating this new shipper review.

EFFECTIVE DATE: August 1, 2001.

FOR FURTHER INFORMATION CONTACT: Paul Stolz or Howard Smith, AD/CVD Enforcement, Office 4, Group II, Import Administration, International Trade Administration, U.S. Department of Commerce, 14th Street and Constitution Avenue, NW., Washington, DC 20230; telephone: (202) 482-4474 or (202) 482-5193 respectively.

The Applicable Statute and Regulations

Unless otherwise indicated, all citations to the statute are references to the provisions effective January 1, 1995, the effective date of the amendments made to the Tariff Act of 1930 (“the Act”) by the Uruguay Round Agreements Act. In addition, unless otherwise indicated, all citations to the Department's regulations are to the current regulations, codified at 19 CFR Part 351 (2001).

Background

On May 31, 2001 the Department received a request, in accordance with section 751(a)(2)(B) of the Act and 19 CFR 351.214(c), for a new shipper review of the antidumping duty order on certain cased pencils.

Pursuant to 19 CFR 351.214(b)(2)(ii) and 19 CFR 351.214(b)(2)(iii)(A), Wuxi's May 31, 2001 request for review included certifications from both Wuxi and Anfong that they did not export the subject merchandise to the United States during the period of investigation (“POI”) and that neither of them is affiliated with any company which exported subject merchandise to the United States during the POI. Wuxi also provided such certification pursuant to 19 CFR 351.214(b)(2)(i), in the event that the Department considers Wuxi to be the producer as well as the exporter. In addition, pursuant to 19 CFR 351.214(b)(2)(iii)(B), Wuxi's request certified that its export activities are not controlled by the central government of the PRC.

In addition, pursuant to 19 CFR 351.214(b)(2)(iv), Wuxi's request contained documentation establishing: the date after the POI on which Wuxi first shipped the subject merchandise for export to the United States, the volume of that and subsequent shipments, and the date of the first sale to an unaffiliated customer in the United States.

It is the Department's usual practice in cases involving non-market economies to require that a company seeking to establish eligibility for an antidumping duty rate separate from the country-wide rate provide de jure and de facto evidence of an absence of government control over the company's export activities. See Certain Preserved Mushrooms from the People's Republic of China: Initiation of New Shipper Antidumping Duty Review, 65 FR 17257 (March 31, 2000). Accordingly, we will issue a separate rates questionnaire to the above-named respondent. If the respondent provides sufficient evidence that it is not subject to either de jure or de facto government control with respect to its exports of certain cased pencils, this review will proceed. If, on the other hand, Wuxi does not meet its burden to demonstrate its eligibility for a separate rate, then Wuxi will be deemed to be affiliated with other companies that exported during the POI. This review will then be terminated due to failure of the exporter or producer to meet the requirements of section 751(a)(2)(B)(i)(II) of the Act and 19 CFR 351.214(b)(2)(iii)(B).

Initiation of Review

The antidumping duty order on certain cased pencils from the PRC has a December anniversary month. See Antidumping Duty Order: Certain Cased Pencils From the People's Republic of China, 59 FR 66909 (December 28, 1994). The Department received Wuxi's request for review on May 31, 2001. The Department's regulations provide that it will initiate a new shipper review in the calendar month immediately following the semiannual anniversary month (i.e., June), if the request for the review is made during the six-month period (i.e., January—June) ending with the end of the semiannual anniversary month. See 19 CFR 351.214(d)(1).

In accordance with section 751(a)(2)(B) of the Act and 19 CFR 351.214(d), we are initiating a new shipper review of the antidumping duty order on certain cased pencils from the PRC. We intend to issue the preliminary results of this review not later than 180 days after the date on which the review is initiated.

Pursuant to 19 CFR 351.214(g)(1)(i)(A) of the Department's regulations, the period of review (“POR”) for a new shipper review initiated in the month immediately following the semiannual anniversary month will be the six-month period immediately preceding the semiannual anniversary month (i.e., December-May). Therefore, the POR for this new shipper is:

Antidumping duty proceeding | Period to be reviewed
Certain Cased Pencils from the PRC, A-570-827: Wuxi Andi Civilization PE Gift give Away Co., Ltd. | 12/1/00-5/31/01

Concurrent with the publication of this initiation notice, and in accordance with 19 CFR 351.214(e), effective on the date of publication of this notice, we will instruct the U.S. Customs Service to suspend liquidation of unliquidated entries of subject merchandise from the above company and allow, at the option of the importer, the posting of a bond or security in lieu of a cash deposit for each entry of the merchandise exported by the company listed above, until the completion of the review.

Interested parties may submit applications for disclosure under administrative protective order in accordance with 19 CFR 351.305 and 351.306.

This initiation and notice are in accordance with section 751(a) of the Act (19 U.S.C. 1675(a)) and 19 CFR 351.214.

Dated: July 24, 2001.
Bernard T. Carreau,
Deputy Assistant Secretary for Import Administration.

[FR Doc. 01-19204 Filed 7-31-01; 8:45 am]

BILLING CODE 3510-DS-P